OFFICE OF THE UNITED STATES TRADE REPRESENTATIVE

Andean Trade Preference Act (ATPA), as Amended: Notice Regarding the 2004 and 2005 Annual Reviews

AGENCY: Office of the United States Trade Representative.

ACTION: Notice.

SUMMARY: The Office of the United States Trade Representative (USTR) received petitions in September 2005 to review certain practices in certain beneficiary developing countries to determine whether such countries are in compliance with the ATPA eligibility criteria. USTR published a list of responsive petitions that were accepted for review in a notice published on November 22, 2005 (70 FR 70652). This notice specifies the results of the preliminary review of those petitions as well as the status of the petitions filed in 2004 that have remained under review.

FOR FURTHER INFORMATION CONTACT: Bennett M. Harman, Deputy Assistant U.S. Trade Representative for Latin America, at (202) 395-9446.

SUPPLEMENTARY INFORMATION: The ATPA (19 U.S.C. 3201 et seq.), as renewed and amended by the Andean Trade Promotion and Drug Eradication Act of 2002 (ATPDEA) in the Trade Act of 2002 (Public Law 107-210), provides trade benefits for eligible Andean countries. Pursuant to section 3103(d) of the ATPDEA, USTR promulgated regulations (15 CFR part 2016) (68 FR 43922) regarding the review of eligibility of countries for the benefits of the ATPA, as amended.

USTR announced initiation of the 2005 ATPA Annual Review with a deadline of September 19, 2005 for the filing of petitions (70 FR 48622). Several of these petitions that USTR received requested the review of certain practices in certain beneficiary developing countries regarding compliance with the eligibility criteria set forth in sections 203(c) and (d) and section 204(b)(6)(B) of the ATPA, as amended (19 U.S.C. 3203(c) and (d); 19 U.S.C. 3203(b)(6)(B)).

In a notice dated November 22, 2005, USTR published a list of the responsive petitions filed pursuant to the announcement of the annual review (70 FR 70652). The Trade Policy Staff Committee (TPSC) has conducted a preliminary review of these petitions. It has determined that due to developments in the matter raised by Exxon Mobil, concerning Peru, that petition does not require further action, and the TPSC is terminating its review. With respect to the remaining 2005 petitions, the TPSC is modifying the schedule for this review, in accordance with 15 CFR 2016.2(b). The results of this review will be announced on or about May 31, 2006.

With respect to the 2004 petition submitted by Electrolux Home Products Inc. concerning Ecuador, the TPSC has determined that the petition does not require further action, and is terminating its review. The TPSC is modifying the date of the announcement of the results of preliminary review for the remaining 2004 petitions to May 31, 2006. Following is the list of all petitions that remain under review:

Peru: Parsons Corporation;

Peru: Engelhard;

Peru: Princeton Dover;

Peru: LeTourenau;

Peru: Duke Energy;

Ecuador: AFL-CIO; Human Rights Watch; and US/LEAP;

Ecuador: Chevron Texaco.

Carmen Suro-Bredie,
Chairman, Trade Policy Staff Committee.

[FR Doc. E6-2695 Filed 2-24-06; 8:45 am]

BILLING CODE 3190-W6-P